FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Best Freight Bridge Inc. dba Best Freight Bridge, 9050 Pines Boulevard, Suite 480-410, Pembroke Pines, FL 33024. Officers: Lillian R. Stewart, President (Qualifying Individual), Ron Sonbeek, Vice President.

Asia Forwarders, Inc., 13434 Village Drive, Cerritos, CA 90703. Officer: Sang Min, Chun, President (Qualifying Individual).

Safe Harbor Logistics, Inc. , 5506 Fountain Bridge Lane, Houston, TX 77069. Officers: Marc J. Lawrence, President (Qualifying Individual), Melinda S. Lawrence, Director.

Non-Vessel-Operating Common Carrier and Ocean Freight Forwarder Transportation Intermediary Applicants

MBM International Logistics, LLC, 650 Atlanta South Parkway, Atlanta, GA 30349. Officers: Harold Hagans, Vice President (Qualifying Individual), Xiao Yan Mers, President.

Globe Shipping, Inc., 820 S. Garfield Ave., #202, Alhambra, CA 91801. Officers: Eric Qian, CEO (Qualifying Individual), Meili Ho, Secretary.

Marserve Inc., 15421 Vantage Pkwy West, #116, Houston, TX 77032. Officers: Michael Henley, Vice President (Qualifying Individual, Einar Eikrem, President.

Ocean Freight Forwarder—Ocean Transportation Intermediary Applicants

Infinity Logistics LLC, 100 N, Charles St., Suite 1200, Baltimore, MD 21201. Officers: Marjorie Shapiro, President (Qualifying Individual), James Shapiro, Vice President.

T & T Shipping Services of New York Inc., 820 Glenmore Avenue, Brooklyn, NY 11208. Officers: Patricia Williams, Vice President (Qualifying Individual), Patrick Turner, President.

Dated: September 8, 2006.
Karen V. Gregory,
Assistant Secretary.

[FR Doc. E6-15217 Filed 9-13-06; 8:45 am]

BILLING CODE 6730-01-P